DEPARTMENT OF COMMERCE

National Oceanic and Atmospheric Administration

[Docket No.: 991215340-2318-02]

Collaborative Science, Technology, and Applied Research (CSTAR) Program

AGENCY: National Weather Service (NWS), National Oceanic and Atmospheric Administration (NOAA), Department of Commerce (DOC).

ACTION: Notice and request for proposals.

SUMMARY: The CSTAR Program represents an NOAA/NWS effort to create a cost-effective continuum of basic and applied research to operations through collaborative research between operational forecasters and academic institutions which have expertise in the environmental sciences. These activities will engage researchers and students in applied research of interest to the operational meteorological community and improve the accuracy of forecasts and warnings of environmental hazards by applying scientific knowledge and information to NWS products and services. The NOAA CSTAR Program is a contributing element of the U.S. Weather Research Program. NOAA's program is designed to complement other agency contributions to that national effort.

DATES: Proposals must be received by the NWS no later than close of business February 21, 2003. We anticipate review of full proposals will occur during March 2003, and funding should begin during early summer 2003 for most approved projects. June 1, 2003, should be used as the proposed start date on proposals, unless otherwise directed by the Program Officer. Applicants should be notified of their status within 3 months of the closing date. All proposals must be submitted in accordance with the guidelines below. Failure to follow these guidelines will result in proposals being returned to the submitter.

ADDRESSES: Proposals must be submitted to NOAA/NWS; 1325 East-West Highway, Room 15330; Silver Spring, Maryland 20910-3283.

FOR FURTHER INFORMATION CONTACT: Sam Contorno (see ADDRESSES), or by phone at 301-713-3557 ext. 150, or fax to 301-713-1253, or via internet at samuel.contorno@noaa.gov.

SUPPLEMENTARY INFORMATION:

Authority: 15 U.S.C. 313; 49 U.S.C. 44720 (b); 33 U.S.C. 883d; 15 U.S.C. 2904; 15 U.S.C. 2934.

Catalog for Federal Domestic Assistance

This program is designated under Catalog for Federal Assistance number 11.468, Applied Meteorological Research.

Funding Availability

NOAA/NWS believes its warning and forecast mission will benefit significantly from a strong partnership with outside investigators. Current program plans assume the total resources provided through this announcement will support extramural efforts through the broad academic community. Because of Federal budget uncertainties, it has not been determined how much money will be available through this announcement. Proposals should be prepared assuming an annual budget of no more than $125,000. It is expected that approximately four awards will be made, depending on availability of funds. This program announcement is for projects to be conducted by university investigators for a 1-year, 2-year, or 3-year period. When a proposal for a multi-year award is approved, funding will initially be provided for only the first year of the program. If an application is selected for initial funding, the NWS has no obligation to provide additional funding in connection with that award in subsequent years. Funding for each subsequent year of a multi-year proposal is at the discretion of the NWS. It will be contingent upon satisfactory progress in relation to the stated goals of the proposal to address specific science needs and priorities of the NWS and the availability of funds. Applications must include a scope of work and a budget for the entire award period. Each funding period must be discrete and clearly distinguished from any other funding period.

The funding instrument for extramural awards will be a cooperative agreement since one or more NOAA/NWS components—forecast offices, National Centers for Environmental Prediction (NCEP) service centers, or regional headquarters—will be substantially involved in implementation of the project. Examples of substantial involvement may include, but are not limited to, proposals for collaboration between NOAA scientists and a recipient scientist and/or contemplation by NOAA of detailing Federal personnel to work on proposed projects. Funding for non-U.S. institutions and contractual arrangements for services and products for delivery to NOAA are not available under this announcement. A matching share is not required by this program.

Program Objectives

The long term objective of the CSTAR Program is to improve the overall forecast and warning capabilities of the operational hydrometeorological community by addressing the following national science priorities through collaborative efforts between the NWS and academic institutions: Quantitative precipitation estimation (QPE) and forecasting (QPF), including precipitation type and probabilistic QPF; Flash flood and probabilistic river prediction; Prediction of seasonal-to-interannual and decadal climate variability, and the impacts of these variabilities on extreme weather events; Prediction of tropical cyclones near landfall, including track, intensity, and associated precipitation, and hazardous weather; Prediction of marine conditions, including fog, winds, coastal ocean, and open-ocean waves; The effect of topography and other surface forcing on local weather regimes; Locally hazardous weather, especially severe convection, winter weather, and phenomena that affect aviation; and Conditions conducive for the rapid development of wildfires and the dispersion of smoke and other air-quality hazards.

Individual NWS Regions and NCEP service centers have a subset of these science priorities due to differences in factors such as topography, weather regimes, and mission.

Program Priorities

NOAA will give sole attention to individual proposals addressing the identified science priorities from NWS Regions and NCEP service centers as listed below. Proposals must clearly specify which primary science priorities are being addressed.

Since a goal of this call for proposals is to foster long-term collaborative interactions between a university and NWS operational offices/NCEP service centers, a proposal must be submitted by at least two principal investigators (PIs) from the same college or university. Proposals submitted jointly by two or more separate colleges or universities are not allowed. At least two of the PIs within this program must be full, assistant, or associate college or university professors with substantial documented involvement in the proposal. Proposals should clearly state the role of each PI in the project.

Except for researchers who are associate, assistant, or full professors at the Naval Postgraduate School or other federally funded educational institutions, Federal Government employees are not allowed to be listed as PIs, although collaboration between the academic community and NOAA within the project is strongly encouraged.

A proposal must contain at least two distinct subtasks addressing one or more of the science priorities listed by a NWS Region or NCEP service center. PIs must clearly address the science and technology transfer process contained within the proposal. This includes their interactions with operational NWS units, including weather offices, River Forecast Centers, NCEP service centers, and regional offices, with the specific goal of improving operational services.

The names, affiliations, and phone numbers of relevant NWS regional/NCEP focal points are provided. Prospective applicants should communicate with these focal points for information on priorities within regional science priorities. Focal points cannot assist in the conceptual design and specific elements to be included in a proposal. Applicants should send completed proposals to the NOAA/NWS program office identified earlier rather than to individual focal points.

NWS Eastern Region Science Priorities

NWS Eastern Region has identified the following science priorities to be addressed by proposals:

The roles of unique geomorphic influences on weather problems such as the type, amount, and intensity of precipitation associated with the complex terrain of the Appalachian Mountains, Atlantic Seaboard, and the Great Lakes. The interaction of these terrain features with large scale weather systems such as winter storms, hurricanes, and closed lows.

The development of more accurate, region-specific conceptual models for tornado, hail, high wind (both convective and synoptic), flash flood, and localized heavy snow events. Detailed investigation of the roles of mesoscale phenomenon such as gravity waves, thermal and moisture boundaries, and localized instabilities during these events. Improved understanding of low-topped severe convection and associated tornado development.

Cloud physics and associated microphysical processes and their role in determining precipitation type and snowfall efficiency.

The relationship of land-falling tropical storms and hurricanes to severe weather and heavy precipitation resulting in flooding and flash flooding.

The processes of snow melt and river ice formation and break-up and their roles in widespread river flooding. The development of high resolution surface analysis systems and the application of these analyses to verification of gridded hydrometeorological forecasts.

The development of improved methodologies for forecasting the onset and dissipation of fog and low ceilings for different geographical locations across the eastern United States.

The processes that lead to high winds, waves, and flooding near the Atlantic Coast, Chesapeake Bay, and Great Lakes. Innovative approaches to formulate, produce, display and deliver high-resolution forecasts and products, an evolving priority of the user community throughout the heavily populated eastern United States. Develop innovative methodologies to communicate forecast uncertainties to a wide variety of users.

FOR FURTHER INFORMATION CONTACT: Kenneth Johnson, NOAA/NWS/Eastern Region Scientific Services Division, 631-244-0136, or on the Internet at Kenneth.Johnson@noaa.gov.

NWS Southern Region Science Priorities

The NWS Southern Region science priorities to be addressed by proposals are as follows:

Development of improved techniques for the prediction of freezing and frozen precipitation events in the NWS Southern Region, including timing, areal extent, intensity and amount.

Development of diurnal lightning and cloud climatologies stratified by weather regime to better predict the onset, spatial coverage, and duration of precipitation, especially under weak synoptic forcing.

Development of improved techniques to forecast and monitor heavy-rain events.

Development of relationships between land falling tropical cyclones and associated severe weather, including heavy precipitation, flooding and flash flooding, throughout the southern United States.

Development of improved techniques to observe and forecast winds and waves in the coastal environment. Improved understanding of the influences of the complex terrain of the southern Appalachians, the Texas Hill Country, the Mexican Plateau, and the Gulf Coast on weather problems such as type, amount, duration and intensity of precipitation and resultant flash flooding.

Development of optimal strategies for using mesoscale models to accurately predict the effects of topography and other surface forcing on local weather. Improved methodologies to better predict the development and duration of stratus, fog and other conditions which result in instrument flight rule (IFR) flying conditions in the NWS Southern Region.

Development of methodologies for use of Doppler weather radar (WSR-88D) and multi-sensor technology to detect/identify storm features leading to, and/or associated with, the development of weak (F0 and F1) tornadoes and waterspouts which are characteristic of tropical and semi-tropical environments.

Development of methodologies for the use of Doppler weather radar and other multi-sensor technology to detect precursor conditions and enhance forecast capabilities for improved warnings associated with microburst producing thunderstorms.

Development of optimal WSR-88D scan strategies and adaptable parameter settings for accurately estimating heavy precipitation amounts.

Development of techniques to improve hydrologic modeling and prediction for Southern U.S. rivers and streams, including calibration of models, improved distributive modeling techniques, and improved soil moisture accounting. Development of methodologies to better predict the type, duration, and severity of arctic outbreaks that result in damaging freezes affecting the NWS Southern Region.

Development of improved methods for utilizing data analysis, manipulation and communication technology (Internet, Web sites, Geographic Information Systems, etc.) for preparing and disseminating high resolution hydrological and meteorological forecasts and products which best serve the changing needs of varied users.

FOR FURTHER INFORMATION CONTACT: Dan Smith, NOAA/NWS/Southern Region Scientific Services Division, 817-978-2671, or on the Internet at dan.smith@noaa.gov.

NWS Central Region Science Priorities

The NWS Central Region science priorities to be addressed by proposals are as follows:

Improve hazardous weather warnings for different geographical locations in Central Region, including the Central Plains, Northern Plains, Ozark Plateau, mid and upper Mississippi Valley, lower Ohio Valley and Great Lakes regions by:

Developing more accurate, region-specific conceptual models for tornado, hail, high wind, heavy precipitation, and elevated nocturnal convection events.

Developing more accurate, region-specific diagnostic strategies/methodologies to interrogate remotely sensed data (radar, satellite, etc.) and numerical weather guidance with emphasis on weaker and shorter lived severe thunderstorm and tornado events.

Improve Central Region winter weather precipitation forecasts by:

Developing a climatology of winter precipitation events including, but not limited to, heavy snow, sleet or freezing rain stratified by Central Region County Warning Forecast Areas and relating it to public products and services. Linking cloud physics and associated micro-physical processes, precipitation efficiency, water vapor distribution, and transport of winter stratiform and/or convective clouds to improved methodologies for estimating or forecasting winter precipitation amounts.

Improve the accuracy (probability of detection) and average forecast lead time for winter storm warnings by better understanding the development, intensification, and sudden acceleration northeastward of strong mid-west storm systems following Rocky Mountain lee-side cyclogenesis.

Improve aviation forecast products and services by:

Developing a climatology of ceiling, visibility, and low-level wind shear for Central Region county warning forecast areas.

Developing better methodologies to forecast the onset and dissipation of fog and low ceilings for different geographical locations in the Central Region.

Improve the utility and utilization of numerical guidance in the forecast process by developing more efficient and effective methodologies to display, review, and interrogate numerical model output in an operational environment.

Improve the quality of weather services to the public through the development of new and innovative forecast methodologies and products.

FOR FURTHER INFORMATION CONTACT: Peter Browning, NOAA/NWS/Central Region Scientific Services Division, 816-891-7734 ext. 300, or on the Internet at Peter.Browning@noaa.gov.

NWS Western Region Science Priorities

The NWS Western Region science needs to be addressed by proposals are as follows:

Improve operational precipitation and hydrological forecasts in complex terrain across a wide range of western U.S. meteorological regimes. In the West, water is a critical and closely managed resource.

Improve wintertime forecasts of snow in complex terrain.

Improve acquisition and use of non-NWS observational networks, such as mesonets.

Improve analysis through better assimilation systems that produce more realistic analysis in complex terrain.

Improve numerical model performance in western complex terrain.

Research, develop and help implement statistical methods to objectively produce bias-corrected model grids (e.g. from grids, not just points) to improve gridded forecasts.

Research, develop and help implement methods to objectively downscale forecast and ensemble grids to the resolution necessary (2-5km) to help improve IFPS forecasts and forecast methodology.

Improve hydrological modeling, through use of emerging techniques, such as distributed hydrologic modeling, of rain/snow melt processes in complex terrain.

Develop conceptual models that better describe the effect of complex terrain on weather forecasts.

Improve precipitation and flash flooding forecasts produced from high based convection with a deep dry sub cloud layer in the arid inter-mountain region.

Improve forecast of significant precipitation events that produce flooding and affect marine forecasts along the west coast.

Improve forecast of the onset of the monsoon season and flash flooding in the desert Southwest.

Improve snow and wind forecast associated with arctic front intrusion into complex terrain in the northern plains.

Improve fire-weather forecasts and smoke dispersion in the western United States.

Improve forecasters ability to produce forecasts of temperature, humidity, and winds in complex terrain.

Improve forecast and warnings of severe weather unique to the western United States through the better use of observational systems and conceptual models.

Improve the performance of coastal and mountain-top WSR-88D radars on a variety of NWS Western Region weather regimes, such as high based inter-mountain convection and low topped storms along the west coast.

FOR FURTHER INFORMATION CONTACT: Andy Edman, NOAA/NWS/Western Region Scientific Services Division, 801-524-5131, or on the Internet at andy.edman@noaa.gov.

NWS Alaska Region Science Priorities

The science priorities of the NWS Alaska Region to be addressed by proposals are as follows (in order of importance):

Determine the geomorphic influences on type, amount, duration, and intensity of snow associated with complex terrain to improve forecasts for the Anchorage, Alaska, area, where over 50 percent of the state population resides.

Develop better methodologies to forecast winds over the marine inland waters of southeast Alaska. Methodologies can include numerical forecasts from mesoscale models.

Improve methodologies to forecast fog in the Alaska coastal communities located along the coast of the Gulf of Alaska.

Improve the winter season WSR-88D-based rain and snow QPEs. All six sites are influenced by complex topography.

Improve the accuracy (probability of detection) and lead time for airborne volcanic ash detection and tracking by better understanding source conditions and early developments of the ash cloud. Improvements must include remote sensing techniques.

Innovative approaches to remote sensing that result in the formulation and production of high resolution hydrometeorological forecasts of river and localized flash flooding produced by synoptic and mesoscale weather systems interacting with complex terrain in south-central Alaska. Emphasis should be placed on the Kenai River watershed.

For Further Information Contact: Gary Hufford, NOAA/NWS/Alaska Region Environmental and Scientific Services Division, 907-271-3886, or on the Internet at gary.hufford@noaa.gov.

NWS Pacific Region Science Priorities

The science priorities of the NWS Pacific Region to be addressed in proposals are as follows:

Optimize the utility of new and existing observing systems, with emphasis on satellites and their use in providing precipitation estimations.

Develop, optimize, and utilize local high-resolution modeling capabilities aimed at providing operational real-time guidance as well as a tool for locally conducted research.

Conduct Pacific Basin synoptic climatological studies, with emphasis on flash-flood and high-wind events.

For Further Information Contact: Ken Waters, NOAA/NWS/Pacific Region Regional Scientist, 808-532-6413, or on the Internet at Ken.Waters@noaa.gov.

NWS National Centers for Environmental Prediction Science Priorities

NCEP service centers have established the following science priorities which may be addressed in proposals:

Aviation Weather Center

Develop numerical and subjective techniques to improve the accuracy of convective forecasts in the 2-6 hour time scale.

Improve the treatment of drizzle-size droplets in clouds that lead to aircraft icing through improved parameterization and/or explicit micro physics techniques that are both economical and support cloud initialization using existing observational data sets, including the Automated Surface Observing System, radar, and satellite data.

Enhance understanding of the triggering mechanisms associated with different families of clear-air turbulence events, including gravity waves emanating from convective systems, gravity waves induced by jet streaks, cross-mountain flow, critical boundary-layer flow regimes, etc.

Improve the observations, data assimilation, and modeling of the moisture profile in the boundary layer to better forecast the occurrence of fog and low cloud ceilings.

Climate Prediction Center

Develop dynamically and ensemble-based techniques to improve the prediction of weekly, monthly, and seasonal precipitation skill, including regional climate prediction systems.

Improve global and domestic forecasts of seasonal climate variability through better understanding and modeling of the coupled atmosphere/ocean system and the effect of variations on that coupling to ensemble prediction.

Hydrometeorological Prediction Center (HPC)

Conduct research addressing the broad geographical and seasonal ranges of problems associated with QPF, from initiation, duration, movement, to precipitation type. This includes the spectrum from drizzle to heavy rain and from lake-effect snow to synoptic-scale snowfall.

Develop new model verification techniques to enhance current methods of objectively assessing which models will perform best. The techniques should apply for all time ranges used by HPC, from less than 6 hours to 7 days.

Develop techniques for using output from model ensembles in forecast operations to improve the accuracy of both deterministic and probabilistic forecasts and to add information concerning uncertainty.

Develop techniques to modify gridded numerical guidance to produce gridded forecast products, which are made horizontally, vertically, and temporally consistent using sound meteorological theory.

Marine Prediction Center (MPC)

Develop a robust marine verification system that utilizes the various observations from both in-situ and remote sources. Parameters to be verified include, but are not limited to: Wind speed and direction; sea-state (height, period, direction); visibility; weather; and icing conditions.

Improve forecasting techniques for warnings and forecasts of hazardous marine conditions through the use of additional data sources (especially in-situ), as well as improved use of all marine data sources in numerical weather prediction and model data assimilation techniques.

Storm Prediction Center

Develop mesoscale or storm-scale numerical prediction models, ensemble approaches, and verification techniques to improve forecasts of the location, timing, intensity, and mode of deep moist convection.

Develop three-dimensional mesoscale analysis techniques, observing systems, expert systems or statistical guidance, robust conceptual models, and scientific understanding to improve forecasts of the location, timing, intensity, and mode of deep moist convection.

Tropical Prediction Center (TPC)

Improve hurricane intensity forecasting using either empirical or dynamical forecasting techniques, especially those that combine atmospheric/oceanic interactions and which can be incorporated with existing TPC intensity guidance.

Improve forecasts for the size of tropical cyclones. A goal of this effort will be the generation of probabilistic guidance by MPC and TPC on 34, 50 kt, and 64 kt forecast wind radii for marine and emergency management interests.

Develop an “all-platform” surface wind display and analysis over marine areas for use by TPC and MPC that would cover the larger scale tropical storm environment and that would combine QuikScat, SSM/I, ERS, low-level cloud-drift winds, and conventional observations, including buoys and ships, etc.

Note: In all instances, projects are encouraged which not only address the priorities of individual NCEP service centers but also address aspects of the NCEP/Environmental Modeling Center's goals for improving data assimilation and numerical modeling of the atmosphere, oceans, and Earth's surface.

FOR FURTHER INFORMATION CONTACT: Ralph Petersen, NOAA/NWS/National Centers for Environmental Prediction, 301-763-8000 ext. 7200, or on the Internet at ralph.petersen@noaa.gov.

Eligibility

All accredited U.S. colleges and universities, including federally funded educational institutions such as the Naval Postgraduate School, are eligible for funding under this announcement. The restriction is needed because the results of the collaboration are to be incorporated in academic processes which ensure academic multidisciplinary peer review as well as Federal review of scientific validity for use in operations. Funding for non-U.S. institutions is not available under this announcement.

Evaluation Criteria

The evaluation criteria and weighting of the criteria are as follows:

(1) Operational Applicability (30 percent): What is the likelihood of the proposed science activities to improve operational hydrometeorological services? Are proposed research activities transferrable to forecast operations in a reasonable time frame?

(2) Scientific Merit (25 percent): What is the intrinsic scientific value and maturity of the subject and the study proposed as they relate to the specific science priorities?

(3) Technology Transfer and Methodology (25 percent): What is the degree of collaboration with multiple operational units throughout the project? What is the level of planning by researchers to integrate results into operations successfully and efficiently? Were focused scientific objectives and strategies, including data management considerations, project milestones, and timeliness, used?

(4) Capability of researchers (10 percent): Do PIs clearly document past scientific collaborations with operational meteorologists? Have past interactions been successful? Are researchers likely to maintain effective and consistent interactions with operational forecasts throughout the course of the proposed research program? Have researchers demonstrated the ability to conduct successful research?

(5) Cost Effectiveness (10 percent): Do researchers demonstrate the ability to leverage other resources? Is there a high ratio of operationally useful results versus proposed costs?

Selection Procedures

All proposals will be evaluated and individually ranked in accordance with the assigned weights of the above evaluation criteria by an independent peer panel review. Three to seven NWS experts representing NWS Regions and Centers may be used in this process. Their recommendations and evaluations will be considered, along with the program policy factors discussed below, by the selecting official who will select the proposals to be funded and determine the amount of funds available for each proposal. Unsatisfactory performance by a recipient under prior Federal awards may result in an application not being considered for funding. Because the selecting official will take into account program policy factors, awards may not necessarily be made to the highest scored proposals.

Program Policy Factors

The selecting official may take into account the need to spread awards geographically and among priorities and universities. While a university may submit more than one application, the selecting official may limit the awards to only one per university. Finally, the amount of funds available and whether an application substantially duplicates other projects currently approved for funding or funded by NOAA or other Federal agencies may be considered by the selecting official.

Proposal Submission

Proposals must adhere to the five provisions under “Proposals” and the seven requirements under “Required Elements” by the deadline of February 21, 2003. Failure to follow these restrictions will result in proposals being returned to the submitter without review. In addition, applicants should note those provisions under “Other Requirements/Information” that must be complied with before an award can be made.

Proposals

(1) Proposals submitted to the NOAA NWS CSTAR Program must include the original and two unbound copies of the proposal.

(2) Investigators are not required to submit more than three copies of the proposal. Investigators are encouraged to submit sufficient proposal copies for the full review process if they wish all reviewers to receive color, unusually sized (not 8.5 x 11), or otherwise unusual materials submitted as part of the proposal. Only an original version of the federally required forms and two copies are needed.

(3) Proposals should be no more than 30 pages (numbered) in length, including budget, investigators vitae, and all appendices and should be limited to funding requests for 1- to 3-year duration. Appended information should be counted within the 30-page total. Federally mandated forms are not included within the page count.

(4) Proposals should be sent to the NWS (see ADDRESSES).

(5) Facsimile transmissions and electronic mail submission of full proposals will not be accepted.

Required Elements

All proposals should include the following elements:

(1) Signed title page. The title page should be signed by the PIs and the institutional representative and should clearly indicate which project area is being addressed. The PIs and institutional representative should be identified by full name, title, organization, telephone number, and address. The total amount of Federal funds being requested should be listed for each budget period.

(2) Abstract: An abstract must be included and should contain an introduction of the problem, rationale, and a brief summary of work to be completed. The abstract should appear on a separate page, headed with the proposal title, institution's investigators, total proposed cost, and budget period.

(3) Results from prior research. The results of related projects supported by NOAA and other agencies should be described, including their relation to the currently proposed work. Reference to each prior research award should include the title, agency, award number, PIs, period of award, and total award. The section should be a brief summary and should not exceed two pages total.

(4) Project description. The proposed project must be completely described, including identification of the problem; scientific objectives; proposed methodology; relevance to the priorities of the NWS Region or NCEP service center; operational applicability; scientific merit; proposed technology transfer; past collaborations with operational hydrometeorologists; cost effectiveness of research; and the program priorities listed above. Benefits of the proposed project to the general public and the scientific community should be discussed. A year-by-year summary of proposed work must be included. The project description, including references but excluding figures and other visual materials, must not exceed 15 pages of text. In general, proposals from three or more investigators may include a project description containing up to 15 pages of overall project description plus up to 5 additional pages for individual project descriptions.

(5) Budget. Applicants must submit a Standard Form 424 “Application for Federal Assistance,” including a detailed budget using the Standard Form 424a, “Budget Information—Non-Construction Programs.” The form is included in the standard NOAA application kit. The proposal must include total and annual budgets corresponding with the descriptions provided in the project description. Additional text to justify expenses should be included as necessary.

(6) Vitae. Abbreviated curriculum vitae are sought with each proposal. Reference lists should be limited to all publications in the last 3 years with up to five other relevant papers.

(7) Current and pending support. For each investigator, submit a list which includes project title, supporting agency with grant number, investigator months, dollar value, and duration. Requested values should be listed for pending support.

Other Requirements/Information

(1) Applicants may obtain a standard NOAA application kit from the NOAA Office of Grants Management. Primary applicant Certification: All primary applicants must submit a completed Form CD-511, “Certification Regarding Debarment, Suspension, and Other Responsibility Matters; Drug-Free Workplace Requirements and Lobbying.”

(2) Federal Policies and Procedures Applicable to this announcement:

A. Environmental Impact. Applicants whose proposed projects may have an environmental impact should furnish sufficient information to assist proposal reviewers in assessing the potential environmental consequences of supporting the project.

B. The Department of Commerce Pre-Award Notification of Requirements for Grants and Cooperative Agreements contained in the Federal Register notice of October 1, 2001 (66 FR 49917), as amended by the Federal Register notice published October 30, 2002 (67 FR 66109), is applicable to this solicitation.

(3) There is no guarantee that sufficient funds will be available to make awards for all qualified projects. The exact amount of funds that may be awarded will be determined in pre-award negotiations between the applicant and the NOAA representatives. Publication of this notice does not oblige NOAA to award any specific project or to obligate any available funds. If one incurs costs prior to receiving an award agreement signed by an authorized NOAA official, one would do so solely at one's own risk of these costs not being included under the award.

(4) Disposition of Unsuccessful Applications. Those proposals that are not ultimately selected for funding will be destroyed.

(5) If an application is selected for funding, the DOC has no obligation to provide any additional future funding in connection with the award. Renewal of an award to increase funding or extend the period of performance is at the total discretion of the DOC.

In accordance with Federal statutes and regulations, no person on grounds of race, color, age, sex, national origin, or disability shall be excluded from participation in, denied benefits of, or subjected to discrimination under any program or activity receiving financial assistance from the NOAA/NWS. The NOAA/NWS does not have a direct telephonic device for the deaf (TDD capabilities can be reached through the State of Maryland-supplied TDD contact number, 800-735-2258, between the hours of 8 a.m.-4:30 p.m.

Paperwork Reduction Act

This notice contains collection-of-information requirements subject to the Paperwork Reduction Act. The use of Standard Forms 424 and 424A has been approved by OMB under the respective control numbers 0348-0043 and 0348-0044. Notwithstanding any other provision of law, no person is required to respond to, nor shall a person be subject to a penalty for failure to comply with, a collection of information subject to the requirements of the Paperwork Reduction Act, unless that collection of information displays a currently valid Office of Management and Budget control number.

Executive Orders 12866 and 12372

This notice has been determined to be not significant for purposes of E.O. 12866. Applications under this program are not subject to E.O. 12372, “Intergovernmental Review of Federal Programs.”

Administrative Procedure Act/Regulatory Flexibility Act

Notice and comment are not required under 5 U.S.C. 553(a)(2), or any other law, for rules relating to public property, loans, grants, benefits or contracts. Because notice and comment are not required, a Regulatory Flexibility Analysis, 5 U.S.C. 601 et seq., is not required and has not been prepared for this notice.

Dated: December 31, 2002.
John E. Jones, Jr.,
Deputy Assistant Administrator for Weather Services.

[FR Doc. 03-224 Filed 1-6-03; 8:45 am]

BILLING CODE 3510-KE-P